DEPARTMENT OF TRANSPORTATION

Federal Aviation Administration

14 CFR Part 25

[Docket No. NM420; Notice No. 25-09-13-SC]

Special Conditions: Dassault Aviation Falcon Model 2000EX; Autobraking System

AGENCY: Federal Aviation Administration (FAA), DOT.

ACTION: Notice of proposed special conditions.

SUMMARY: This action proposes special conditions for the Dassault Aviation Falcon Model 2000EX airplane. This airplane will have a novel or unusual design features associated with the autobraking system for use during landing. The applicable airworthiness regulations do not contain adequate or appropriate safety standards for this design feature. These proposed special conditions contain the additional safety standards that the Administrator considers necessary to establish a level of safety equivalent to that established by the existing airworthiness standards.

DATES: We must receive your comments by January 25, 2010.

ADDRESSES: You must mail two copies of your comments to: Federal Aviation Administration, Transport Airplane Directorate, Attn: Rules Docket (ANM-113), Docket No. NM420, 1601 Lind Avenue, SW., Renton, Washington, 98057-3356. You may deliver two copies to the Transport Airplane Directorate at the above address. You must mark your comments: Docket No. NM420. You can inspect comments in the Rules Docket weekdays, except Federal holidays, between 7:30 a.m. and 4 p.m.

FOR FURTHER INFORMATION CONTACT: Todd Martin, FAA, Airframe/Cabin Safety, ANM-115, Transport Airplane Directorate, Aircraft Certification Service, 1601 Lind Avenue, SW., Renton, Washington, 98057-3356; telephone (425) 227-1178; facsimile (425) 227-1149.

SUPPLEMENTARY INFORMATION:

Comments Invited

We invite interested people to take part in this rulemaking by sending written comments, data, or views. The most helpful comments reference a specific portion of the special conditions, explain the reason for any recommended change, and include supporting data. We ask that you send us two copies of written comments.

We will file in the docket all comments we receive, as well as a report summarizing each substantive public contact with FAA personnel concerning these special conditions. You can inspect the docket before and after the comment closing date. If you wish to review the docket in person, go to the address in the ADDRESSES section of this preamble between 7:30 a.m. and 4 p.m., Monday through Friday, except Federal holidays.

We will consider all comments we receive on or before the closing date for comments. We will consider comments filed late if it is possible to do so without incurring expense or delay. We may change these special conditions based on the comments we receive.

If you want us to acknowledge receipt of your comments on this proposal, include with your comments a self-addressed, stamped postcard on which you have written the docket number. We will stamp the date on the postcard and mail it back to you.

Background

On July 1, 2008, Dassault Aviation applied for a change to Type Certificate (TC) No. A50NM to install an automatic braking system in the Falcon Model 2000EX airplane. This is a pilot-selectable function that allows earlier maximum braking at landing without pilot pedal input. When the autobrake system is armed before landing, it automatically commands maximum braking at main wheels touchdown. Normal procedures remain unchanged and call for manual braking after nose wheel touchdown.

The current Federal Aviation Regulations do not contain adequate requirements to address the potentially higher structural loads that could result from this type of automatic braking system. Title 14, Code of Federal Regulations (14 CFR) 25.471 through 25.511 address ground handling loads, but do not contain a specific “pitchover” requirement addressing the loading on the nose gear, the nose gear surrounding structure, and the forward fuselage. The Dassault autobraking system, which applies maximum braking at the main wheels before the nose gear touches down, will cause a high nose gear sink rate, and potentially higher gear and airframe loads. Therefore, the FAA has determined that a special condition is needed. The special condition requires that the airplane be designed to withstand the loads resulting from maximum braking, taking into account the effects of the automatic braking system.

Type Certification Basis

Under the provisions of § 21.101, Dassault Aviation must show that the Falcon Model 2000EX, as changed, continues to meet the applicable provisions of the regulations incorporated by reference in TC No. A50NM, or the applicable regulations in effect on the date of application for the change. The regulations incorporated by reference in the type certificate are commonly referred to as the “original type certification basis.” The regulations incorporated by reference in TC No. A50NM are as follows:

Title 14 Code of Federal Regulations (14 CFR) part 25 as amended by Amendments 25-1 through 25-69. In addition, Dassault Aviation has elected to comply with the following amendments:

• Amendment 25-71 for § 25.365(e);

• Amendment 25-72 for §§ 25.783(g) and 25.177;

• Amendment 25-75 for § 25.729(e);

• Amendment 25-79 for § 25.811(e)(2);

• Amendment 25-80 for § 25.1316.

In addition, the certification basis includes certain special conditions, exemptions, or later amended sections of the applicable part that are not relevant to this proposed special condition.

If the Administrator finds that the applicable airworthiness regulations (i.e., part 25) do not contain adequate or appropriate safety standards for the Falcon Model 2000EX because of a novel or unusual design feature, special conditions are prescribed under the provisions of § 21.16.

In addition to the applicable airworthiness regulations and special conditions, the Falcon Model 2000EX must comply with the fuel vent and exhaust emission requirements of 14 CFR part 34 and the noise certification requirements of 14 CFR part 36.

The FAA issues special conditions, as defined in §§ 11.19 and 11.38, and they become part of the type-certification basis under § 21.101.

Special conditions are initially applicable to the model for which they are issued. Should the type certificate for that model be amended later to include any other model that incorporates the same or similar novel or unusual design feature, or should any other model already included on the same type certificate be modified to incorporate the same or similar novel or unusual design feature, the special conditions would also apply to the other model under § 21.101.

Novel or Unusual Design Features

The Falcon Model 2000EX will incorporate the following novel or unusual design features:

The airplane will be equipped with an automatic braking system, which is a pilot-selectable function that allows earlier maximum braking at landing without pilot pedal input. When the autobrake system is armed before landing, it automatically commands maximum braking at main wheels touchdown. This will cause a high nose gear sink rate, and potentially higher gear and airframe loads than would occur with a traditional braking system. Therefore, the FAA has determined that a special condition is needed.

Discussion

The special condition defines a landing pitchover condition that takes into account the effects of the automatic braking system. The special condition defines the airplane configuration, speeds, and other parameters necessary to develop airframe and nose gear loads for this condition. The special condition requires that the airplane be designed to support the resulting limit and ultimate loads as defined in § 25.305.

Applicability

As discussed above, these special conditions are applicable to the Falcon Model 2000EX. Should Dassault Aviation apply at a later date for a change to the type certificate to include another model incorporating the same novel or unusual design feature, the special conditions would apply to that model as well.

Conclusion

This action affects only certain novel or unusual design features on one model of airplanes. It is not a rule of general applicability.

List of Subjects in 14 CFR Part 25

Aircraft, Aviation safety, Reporting and recordkeeping requirements.

The authority citation for these special conditions is as follows:

Authority: 49 U.S.C. 106(g), 40113, 44701, 44702, 44704.

The Proposed Special Condition

Accordingly, the Federal Aviation Administration (FAA) proposes the following special condition as part of the type certification basis for Dassault Aviation Falcon Model 2000EX airplanes.

Landing Pitchover Condition

A landing pitchover condition must be addressed that takes into account the effect of the autobrake system. The airplane is assumed to be at the design maximum landing weight, or at the maximum weight allowed with the autobrake system on. The airplane is assumed to land in a tail-down attitude and at the speeds defined in § 25.481. Following main gear contact, the airplane is assumed to rotate about the main gear wheels at the highest pitch rate allowed by the autobrake system. This is considered a limit load condition from which ultimate loads must also be determined. Loads must be determined for critical fuel and payload distributions and centers of gravity. Nose gear loads, as well as airframe loads, must be determined. The airplane must support these loads as described in § 25.305.

Michael J. Kaszycki,
Acting Manager, Transport Airplane Directorate, Aircraft Certification Service.

[FR Doc. E9-29398 Filed 12-9-09; 8:45 am]

BILLING CODE 4910-13-P